FARM CREDIT ADMINISTRATION

Privacy Act of 1974; System of Records; Corrections

AGENCY: Farm Credit Administration.

ACTION: Correction—insert date.

SUMMARY: On November 17, 2021, the Farm Credit Administration (FCA) issued a notice of a new system of records proposing to establish a new system of records. The Health and Safety in the Workplace Records System will collect and maintain information used for ensuring workplace health and safety in response to a public health emergency, such as a pandemic or epidemic.

FOR FURTHER INFORMATION CONTACT: Antonya Brown, Technical Editor, Office of General Counsel, Farm Credit Administration, McLean, VA 22102-5090, (703) 883-4020, TTY (703) 883-4056.

SUPPLEMENTARY INFORMATION: On Wednesday, November 17, 2021, FCA published in the Federal Register (86 FR 64199) a notice of a new system of records. The Health and Safety in the Workplace Records System. This document corrects the date that was omitted on when FCA filed a Notice of a New System Report with Congress and the Office of Management and Budget, which was November 4, 2021.

Dated: November 17, 2021.
Ashley Waldron,
Secretary, Farm Credit Administration.

[FR Doc. 2021-25389 Filed 11-19-21; 8:45 am]

BILLING CODE 6705-01-P